NUCLEAR REGULATORY COMMISSION

Revision of Operator Licensing Examination Standards for Power Reactors: Notice of Availability

AGENCY: Nuclear Regulatory Commission (NRC).

ACTION: Notice of availability.

SUMMARY: The Nuclear Regulatory Commission has issued Supplement 1 to Revision 8 of NUREG-1021, “Operator Licensing Examination Standards for Power Reactors,” (formerly “Operator Licensing Examiner Standards”). The Commission uses NUREG-1021 to provide policy and guidance for the development, administration, and grading of written examinations and operating tests used to determine the qualifications of individuals who apply for operator and senior operator licenses at nuclear power plants pursuant to part 55 of Title 10 of the Code of Federal Regulations (10 CFR part 55). NUREG-1021 provides similar guidance for verifying the continued qualifications of licensed operators when the staff determines that NRC requalification examinations are necessary.

NUREG-1021 has been revised to implement a number of clarifications and enhancements that have been identified since Revision 8 was published in April 1999. A draft of Supplement 1 was issued for comment on March 20, 2000 (65 FR 15020), and an addendum, which extended the comment period until October 31, 2000, was issued on July 17, 2000 (65 FR 44080). A summary of the comments regarding draft Supplement 1 and the NRC staff's response to those comments is available in the NRC Public Electronic Reading Room (http://www.nrc.gov/NRC/ADAMS/index.html/Accession Number ML010580481).

The notable changes in Supplement 1 include: (1) Clarified guidance to ensure that the topics and questions for the written examination are selected in a systematic and random manner making it possible to relax the limits on question repetition from recent examinations and to increase the upper limit on the number of questions that may be taken directly from a bank of previously-used questions; (2) updated guidelines related to the training and qualification of operator license applicants in order to conform with Revision 3 of Regulatory Guide 1.8, “Qualification and Training of Personnel for Nuclear Power Plants,” which was published in May 2000; and (3) clarified guidance for documenting NRC staff concerns related to draft examination quality.

Supplement 1 to Revision 8 will become effective for operator licensing examinations that are confirmed 60 or more days after the date of this notice by issuance of an official corporate notification letter or at an earlier date agreed upon by the facility licensee and its NRC Regional Office. After the effective date, facility licensees that elect to prepare their examinations will be expected do so based on the guidance in Supplement 1 to Revision 8 of NUREG-1021, unless the NRC has reviewed and approved the facility licensee's alternative examination procedures.

Copies of Supplement 1 to Revision 8 of NUREG-1021 are being mailed to the plant or site manager at each nuclear power facility regulated by the NRC. A copy is available for inspection and/or copying for a fee in the NRC's Public Document Room, Washington, DC. NUREG-1021 is also electronically available for downloading from the NRC's operator licensing web site (http://www.nrc.gov/NRC/REACTOR/OL/OLguidance.html). If you do not have electronic access to NRC documents, you may request a single copy of Supplement 1 by writing to the Office of the Chief Information Officer, Reproduction and Distribution Services Section, U.S. Nuclear Regulatory Commission, Washington, DC 20555-0001 (facsimile: 301-512-2289). Telephone requests cannot be accommodated. NUREG documents are not copyrighted, and Commission approval is not required to reproduce them.

Dated at Rockville, Maryland, this 17th day of April 2001.
For the Nuclear Regulatory Commission.
Glenn M. Tracy,
Chief, Operator Licensing, Human Performance and Plant Support Branch, Division of Inspection Program Management, Office of Nuclear Reactor Regulation.

[FR Doc. 01-10243 Filed 4-24-01; 8:45 am]

BILLING CODE 7590-01-P